DEPARTMENT OF AGRICULTURE

Forest Service

Forest Resource Coordinating Committee

AGENCY: Forest Service, USDA.

ACTION: Notice of meeting.

SUMMARY: The Forest Resource Committee Meeting will meet in Washington, DC on January 20, 2012. The purpose of the meeting is to orient the committee members to the federal advisory committees and to discuss projects for the committee to discuss throughout the 2012 year. The meeting is partially closed to the public.

The Forest Resource Committee is authorized under the Food, Conservation, and Energy Act of 2008 (Pub. L. 110-246). The purpose of the committee is to provide direction and coordination of actions within the U.S. Department of Agriculture, and coordination with State agencies and the private sector, to effectively address the national priorities for non-industrial private forest land.

DATES: The meeting will be held on January 20, 2012.

ADDRESSES: The meeting will be held at 201 14th Street SW., Washington, DC in the Sidney Yates Building Training Room. Written comments should be sent to 1400 Independence Ave. SW., mailstop 1123, Washington DC 20250. Comments may also be sent via email to mayasolomon@fs.fed.us, or via facsimile to (202) 205-1271.

All comments, including names and addresses when provided, are placed in the record and are available for public inspection and copying. The public may inspect comments received on the Forest Resource Coordinating Committee Web site at http://www.fs.fed.us/spf/coop/. Visitors are encouraged to call ahead to (202) 205-1043 to facilitate entry into the building.

FOR FURTHER INFORMATION CONTACT: Maya Solomon, Forest Resource Coordinating Committee Program Coordinator, Cooperative Forestry staff, (202) 205-1376 or Ted Beauvais, Assistant Director, Cooperative Forestry staff, (202) 205-1190.

Individuals who use telecommunication devices for the deaf (TDD) may call the Federal Information Relay Service (FIRS) at 1-(800) 877-8339 between 8 a.m. and 8 p.m., Eastern Standard Time, Monday through Friday.

SUPPLEMENTARY INFORMATION: The meeting is open to the public from 12 p.m. to 4:30 p.m.. The committee will discuss its 2012 plan of work, which is open to the public. A full agenda for this meeting may be found on the Forest Resource Coordinating Committee Web site (http://www.fs.fed.us/spf/coop/). Anyone who would like to bring related matters to the attention of the committee may file written statements with the committee staff or after the meeting. A summary of the metting will be posted at http://www.fs.fed.us/spf/coop/within 21 days of the meeting.

Dated: December 15, 2011.
James Hubbard,
Deputy Chief, State & Private Forestry.

[FR Doc. 2011-32608 Filed 12-20-11; 8:45 am]

BILLING CODE 3410-11-P